DEPARTMENT OF TRANSPORTATION

Surface Transportation Board

[STB Finance Docket No. 34998 (Sub-No. 1)]

BNSF Railway Company—Temporary Trackage Rights Exemption—Union Pacific Railroad Company

Union Pacific Railroad Company (UP), pursuant to written trackage rights agreements entered into between UP and BNSF Railway Company (BNSF), has agreed to grant BNSF temporary overhead trackage rights to expire on July 29, 2007, over UP lines for: (1) Eastbound trains (a) on the Dallas Subdivision from milepost 245.3, Tower 55, at Ft. Worth, TX, to milepost 89.6, Longview, TX, (b) on the Little Rock Subdivision from milepost 89.6, Longview, to milepost 343.6, North Little Rock, AR, (c) on the Hoxie Subdivision from milepost 343.6, North Little Rock, to milepost 287.9, Bald Knob, AR, and (d) on the Memphis Subdivision from milepost 287.9, Bald Knob, to milepost 378.1, Kentucky Street, Memphis, TN, a distance of 542.2 miles; and (2) westbound trains (a) on the Memphis Subdivision from Kentucky Street to milepost 375.3, Briark, AR, (b) on the Brinkley Subdivision from milepost 4.1 to milepost 70.6, Brinkley, AR, (c) on the Jonesboro Subdivision from milepost 200.5 to milepost 264.2, Pine Bluff, AR, (d) on the Pine Bluff Subdivision from milepost 264.2 to milepost 525.1, Big Sandy, TX, and (e) on the Dallas Subdivision from milepost 114.5 to milepost 245.3, Tower 55, at Ft. Worth, a distance of 526.3 miles. The original grant of temporary overhead trackage rights exempted in BNSF Railway Company—Temporary Trackage Rights Exemption—Union Pacific Railroad Company, STB Finance Docket No. 34998 (STB served Feb. 27, 2007), covered the same lines, but expired on May 12, 2007. The purpose of this transaction is to modify the temporary overhead trackage rights exempted in STB Finance Docket No. 34998 to extend the expiration date from May 12, 2007, to July 29, 2007.

The transaction is scheduled to be consummated on June 30, 2007, the effective date of the exemption covered by this notice.¹ The temporary overhead trackage rights will allow BNSF to continue to bridge its train service while BNSF's main lines are out of service due to certain programmed track, roadbed and structural maintenance.

¹ BNSF states that it filed this notice to extend retroactively the termination date of the temporary overhead trackage rights from May 12, 2007, to July 29, 2007. As noted, this exemption takes effect on June 30, 2007. BNSF should file notices of exemption designed to extend its temporary overhead traffic rights sufficiently in advance of the expiration date to allow the exemption to become effective prior to the previously noticed expiration date.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction. Any stay petition must be filed on or before June 22, 2007 (at least 7 days before the exemption becomes effective).

An original and 10 copies of all pleadings, referring to STB Finance Docket No. 34998 (Sub-No. 1), must be filed with the Surface Transportation Board, 395 E Street, SW., Washington, DC 20423-1001. In addition, one copy of each pleading must be served on Sidney L. Strickland, Jr., Sidney Strickland and Associates, PLLC, 3050 K Street, NW., Suite 101, Washington, DC 20007.

Board decisions and notices are available on our Web site at http://www.stb.dot.gov.

Decided: June 14, 2007.
By the Board, David M. Konschnik, Director, Office of Proceedings.
Vernon A. Williams,
Secretary.

[FR Doc. E7-11890 Filed 6-19-07; 8:45 am]

BILLING CODE 4915-01-P